DEPARTMENT OF TRANSPORTATION

Federal Highway Administration

Draft Environmental Impact Statement Draft Section 4(f) Evaluation: Montgomery & Prince George's Counties, MD

AGENCY: Federal Highway Administration (FHWA), DOT.

ACTION: Notice of intent.

SUMMARY: The FHWA is issuing this notice to advise the public that a Draft Environmental Impact Statement (EIS)/Draft Section 4(f) Evaluation will be prepared for a proposed transportation project in Montgomery and Prince George's Counties, Maryland.

FOR FURTHER INFORMATION CONTACT: Nelson J. Castellanos, Division Administrator, Federal Highway Administration, The Rotunda—Suite 220, 711 West 40th Street, Baltimore, Maryland 21211, Telephone: (410) 962-4440.

SUPPLEMENTARY INFORMATION: The FHWA, in cooperation with the Maryland Department of Transportation and the Maryland State Highway Administration is preparing a Draft EIS/Draft Section 4(f) Evaluation for the proposed Intercounty Connector (ICC) transportation improvement project. The U.S. Army Corps of Engineers and the U.S. Environmental Protection Agency will be invited to participate as cooperating agencies. The proposed ICC project is intended to provide a multi-modal highway between I-270 in Montgomery County and I-95/US 1 in Prince George's County, Maryland, a distance of about 18 miles. The project has been designated a high priority project for expedited agency reviews under Executive Order 13274, Environmental Stewardship and Transportation Infrastructure Project Reviews.

Project studies pursuant to the National Environmental Policy Act (NEPA) concerning the ICC project were most recently conducted in the early to late-1990s resulting in the completion of a Draft EIS/Draft Section 4(f) Evaluation in 1997. Study alternatives were presented at four Location/Design Public Hearings in May and June 1997. The State of Maryland put the ICC project on hold shortly after the hearings.

The ICC project will involve the consideration of a reasonable range of alternatives that address the project goals. Consistent with NEPA, a full range of multi-modal highway alternatives will be considered, ranging from a No-Action Alternative to a limited access roadway on new location.

Letters describing the proposed action and soliciting comments will be sent to appropriate Federal, State and local agencies, private organizations and citizens who have previously expressed or are known to have an interest in this project. Public information Meetings are tentatively scheduled for Summer 2003 with a Location/Design Public Hearing tentatively scheduled for late Fall/early Winter 2004. Public notice will be given of the time and place for the Public Information Meetings, Location/Design Public Hearing and other public meetings as they occur.

The Draft EIS/Draft Section 4(f) Evaluation will be available for public and agency review and comment prior to the public hearing. Several scoping meetings for the public, agencies, and Metropolitan Washington Council of Governments will be conducted prior to publication of the Draft EIS/Draft Section 4(f) Evaluation. Informational meetings and public outreach will be conducted throughout the project.

Comments and suggestions are invited from all interested parties to ensure that the full range of issues related to this proposed action are identified and addressed. Comments or questions concerning these proposed actions and the proposed Draft EIS/Draft Section 4(f) Evaluation should be directed to the FHWA at the address provided previously.

(Catalog of Federal Domestic Assistance Program Number 20.205, Highway Research, Planning and Construction. The regulations implementing Executive Order 12372 regarding intergovernmental consultation of Federal Programs and activities apply to this program)
Issued on: May 27, 2003.
Nelson J. Castellanos,
Division Administrator, Baltimore, Maryland.

[FR Doc. 03-13794 Filed 6-2-03; 8:45 am]

BILLING CODE 4910-22-M